FEDERAL COMMUNICATIONS COMMISSION

47 CFR Parts 2, 20, and 68

[WT Docket No. 20-3; FCC 21-28; FRS 17406; 23223]

Standards for Hearing Aid-Compatible Handsets

AGENCY: Federal Communications Commission.

ACTION: Final rule.

SUMMARY: In this document, the Federal Communications Commission (“Commission”) incorporates by reference into its wireless hearing aid compatibility rules ANSI C63.19-2019 (2019 ANSI Standard) and ANSI/TIA-5050-2018 (Volume Control Standard). These standards will be used to evaluate the hearing aid compatibility of wireless handsets.

DATES:

Effective date: Effective June 3, 2021, except for amendatory instruction 5 (§ 20.19(f), (h)(1), and (i)) which is delayed. We will publish a document in the Federal Register announcing the effective date for these revised provisions.

Incorporation by reference: The incorporation by reference of certain standards into the Commission's wireless hearing aid compatibility rules is approved by the Director of the Federal Register as of June 3, 2021. The incorporation by reference of ANSI C63.19-2007 and ANSI C63.19-2011 were approved by the Director of the Federal Register as of June 6, 2008 and August 16, 2012, respectively.

Compliance Date: The March 1, 2021 volume control requirement deadline in § 20.19(b)(1) and (f)(1)(ii) was suspended as of February 16, 2021.

ADDRESSES: Federal Communications Commission, 45 L Street NE, Washington, DC 20554.

FOR FURTHER INFORMATION CONTACT: Eli Johnson, Eli.Johnson@fcc.gov, Competition & Infrastructure Policy Division, Wireless Telecommunications Bureau, (202) 418-1395.

SUPPLEMENTARY INFORMATION: This is a summary of the Commission's Report and Order in WT Docket No. 20-3, FCC 21-28, adopted on February 16, 2021 and released on February 22, 2021. The full text of this document is available for public inspection online at https://www.fcc.gov/edocs. Documents will be available electronically in ASCII, Microsoft Word, and/or Adobe Acrobat. Alternative formats are available for people with disabilities (Braille, large print, electronic files, audio format, etc.), and reasonable accommodations (accessible format documents, sign language interpreters, CART, etc.) may be requested by sending an email to FCC504@fcc.gov or call the Consumer & Governmental Affairs Bureau at 202-418-0530 (voice), 202-418-0432 (TTY).

Incorporation by Reference

The Office of Federal Register (OFR) regulations require that agencies must discuss in the preamble of a final rule the ways that the materials incorporated by reference are reasonably available to interested parties and that interested parties can obtain the materials. In addition, OFR regulations require that the preamble of a final rule summarize the material incorporated by reference. This discussion summarizes and indicates the availability of the 2019 ANSI Standard and the Volume Control Standard.

ANSI C63.19-2019 (2019 ANSI Standard) is officially known as: Accredited Standards Committee C63®—Electromagnetic Compatibility, American National Standard Methods of Measurement of Compatibility Between Wireless Communications Devices and Hearing Aids (approved August 19, 2019). It is an industry approved technical standard for determining hearing aid compatibility between wireless handsets and hearing aids. The standard is available for inspection at the Federal Communications Commission, 45 L Street NE, Reference Information Center, Room 1.150, Washington, DC 20554, (202) 418-0270. The standard is also available for purchase from IEEE Operations Center, 445 Hoes Lane, Piscataway, NJ 08854-4141, by calling (732) 981-0060, or going to https://standards.ieee.org/.

ANSI/TIA-5050-2018 (Volume Control Standard) is officially known as: Telecommunications—Communications Products—Receive Volume Control Requirements for Wireless (Mobile) Devices (approved January 17, 2018). It is an industry approved technical standard used to evaluate the volume control capabilities of wireless handsets. The standard is available for inspection at the Federal Communications Commission, 45 L Street NE, Reference Information Center, Room 1.150, Washington, DC 20554, (202) 418-0270. The standard is also available for purchase from Telecommunications Industry Association, 1320 North Courthouse Road, Suite 200, Arlington, VA 22201, by calling (703) 907-7700, or by visiting https://global.ihs.com/csf_home.cfm?&csf=TIA.

The Report and Order also references two additional standards: ANSI C63.19-2007 and ANSI C63.19-2011. Like the 2019 ANSI Standard, these standards are industry approved technical standards for determining hearing aid compatibility between wireless handsets and hearing aids. These two standards were previously incorporated by reference into the Commission's rules and that use is unchanged. They are available from the IEEE at IEEE Operations Center, 445 Hoes Lane, Piscataway, NJ 08854-4141, by calling (732) 981-0060, or going to https://standards.ieee.org/.

Regulatory Flexibility Act

The Regulatory Flexibility Act of 1980, as amended (RFA), requires that an agency prepare a regulatory flexibility analysis for notice and comment rulemakings, unless the agency certifies that “the rule will not, if promulgated, have a significant economic impact on a substantial number of small entities.” Accordingly, the Commission prepared a Final Regulatory Flexibility Analysis (FRFA) concerning the possible impact of the rule changes contained in this Report and Order.

Paperwork Reduction Act

The requirements in revised § 20.19(f), (h)(1), and (i) constitute new or modified collections subject to the Paperwork Reduction Act of 1995 (PRA), Public Law 104-13. They will be submitted to the Office of Management and Budget (OMB) for review under section 3507(d) of the PRA. OMB, the general public, and other Federal agencies will be invited to comment on the new information collection requirements contained in this proceeding. This document will be submitted to OMB for review under section 3507(d) of the PRA. In addition, the Commission notes that, pursuant to the Small Business Paperwork Relief Act of 2002, it previously sought, but did not receive, specific comment on how the Commission might further reduce the information collection burden for small business concerns with fewer than 25 employees. The Commission describes impacts that might affect small businesses, which includes more businesses with fewer than 25 employees, in the FRFA.

Congressional Review Act

The Commission has determined, and the Administrator of the Office of Information and Regulatory Affairs, Office of Management and Budget, concurs, that this rule is “non-major” under the Congressional Review Act, 5 U.S.C. 804(2). The Commission will include a copy of this Report and Order in a report sent to Congress and the Government Accountability Office pursuant to the Congressional Review Act, see 5 U.S.C. 801(a)(1)(A).

Synopsis

1. The Commission updates its wireless hearing aid compatibility requirements to ensure that tens of millions of Americans with hearing loss have access to the same types of technologically advanced handsets as those without hearing loss.

2. Recently, a new ANSI standard (the 2019 ANSI Standard) was developed through a voluntary, consensus-driven approach. The new standard requires that the handset meet volume control specifications, applies to a wider range of frequency bands and technologies, replaces the current rating system with a more consumer-friendly approach, and harmonizes testing methodologies with international standards.

3. The Commission's rules require both device manufacturers and service providers to offer consumers a minimum number of wireless handset models that meet specified technical standards for compatibility with different types of hearing aids through acoustic coupling and inductive coupling. Manufacturers and service providers must offer a minimum number of compliant handset models for each “air interface” based on the total number of handset models that they offer. The Commission's rules currently require handset manufacturers to ensure that at least 66% of their handset models are hearing aid-compatible, with that minimum increasing to 85% on October 21, 2021. Likewise, national wireless carriers are currently required to ensure that at least 66% of their handset models are hearing aid-compatible, with that minimum increasing to 85% on April 4, 2022. These requirements for manufacturers and service providers are subject to a de minimis exception. The Commission has stated that it will decide by 2024 whether to require that 100% of handsets be hearing aid-compatible.

4. The Commission's rules also include a volume control requirement, adopted in October 2017, which is designed to accommodate all people with hearing loss, including those who do not use hearing aids. Under the current rules, beginning on March 1, 2021, manufacturers must ensure that all wireless handset models newly submitted for hearing aid compatibility certification are “equipped with volume control that produces sound levels suitable for persons with hearing loss (including persons with and without hearing aids).”

5. The Commission's hearing aid compatibility rules currently incorporate a 2011 version of ANSI's hearing aid compatibility standard (2011 ANSI Standard) to determine if a handset is hearing aid-compatible. In September 2019, the Accredited Standards Committee C63®-Electromagnetic Compatibility (ANSI Committee) asked the Commission to incorporate the 2019 ANSI Standard into the Commission's wireless hearing aid compatibility rules. The 2019 ANSI Standard makes several significant revisions in the processes for determining the compatibility between wireless handsets and hearing aids. Specifically, the 2019 ANSI Standard requires that handsets meet volume control specifications in order to be considered hearing aid-compatible under that standard. In order to pass the volume control requirement, a handset must meet a two-part test. The first part of the requirement tests for conversational gain with a hearing aid, and the second part of the requirement tests for conversational gain without a hearing aid. To pass the first part of the requirement, a handset must have at least 6 dB of conversational gain with a hearing aid, and to pass the second part of the requirement, a handset must have at least 18 dB of conversational gain without a hearing aid. In addition, the 2019 ANSI Standard addresses additional technologies and devices operating in a wider frequency range of 614 MHz to 6 GHz, which now includes the 614-698 MHz band made available for wireless use by the repacking of television broadcast operations. Further, the 2019 ANSI Standard replaces the present numerical M/T rating system with a set of requirements and thresholds that determines compatibility. The 2019 ANSI Standard also reduces the testing burden on handset manufacturers by allowing them to perform certain simple tests first to determine compatibility with acoustic coupling (which may eliminate the need to perform more time-consuming tests); the new standard also reduces the testing burden on hearing aid manufacturers by conforming testing protocols for hearing aids with international standards. The ANSI Committee asserts that, as a result of these changes, the new standard will improve the experience of hearing aid users, including those who use cochlear implants, while at the same time reducing testing burdens.

6. In January 2020 (85 FR 13119, March 6, 2020), the Commission released a notice of proposed rulemaking (NPRM or 2020 ANSI Standard NPRM) proposing to adopt the 2019 ANSI Standard as the exclusive testing standard for determining the compatibility of wireless handsets and a two-year transition from the current 2011 ANSI Standard. The NPRM also sought comment on whether to continue to maintain the exemption from hearing aid compatibility requirements for those wireless handsets operating with frequencies above 6 GHz. In addition, the Commission proposed to extend the current deadline for implementing volume control requirements so that it aligns with the date that the 2019 ANSI Standard becomes the exclusive testing standard for hearing aid compatibility. The NPRM also sought comment on updating the rules to make changes related to implementing the 2019 ANSI Standard, particularly with respect to labeling and disclosure and to remove unnecessary or superseded rule provisions. The NPRM generally sought comment on whether these proposals would improve the experience of hearing aid users as well as reduce regulatory burdens for handset manufacturers and service providers.

7. In this Report and Order, the Commission incorporates the 2019 ANSI Standard into its rules and makes it the exclusive testing standard for determining hearing aid compatibility after a two-year transition. In addition, the Commission extends the current volume control deadline so that it coincides with the start of the exclusive use of the 2019 ANSI Standard. Further, the Commission makes corresponding implementation changes to its rules, and refines its hearing aid compatibility labeling requirements. Finally, the Commission removes past transition dates and benchmarks and make other technical changes to the rules.

A. Codification of the 2019 ANSI Standard

8. As proposed in the NPRM, the Commission adopts the 2019 ANSI Standard and the ANSI/TIA Volume Control Standard and incorporates the new standards into the Commission's hearing aid compatibility rules by reference as the exclusive technical standards for evaluating the hearing aid compatibility of wireless handsets and volume control after a two-year transition from the 2011 ANSI Standard. The Commission has long recognized that its hearing aid compatibility rules should evolve as revisions to the ANSI standards are developed over time. The Commission has encouraged the ANSI Committee to work with relevant stakeholders to review hearing aid compatibility issues periodically and to determine whether improvements to the standard are warranted. The Commission appreciates the work the ANSI Committee has undertaken with respect to developing the 2019 ANSI Standard, and the Commission incorporates the new standard into its rules by concluding, pursuant to section 710 of the Communications Act, that compliance is necessary to ensure reasonable access to telephone service by persons with impaired hearing.

9. The new standard improves the measurement of potential hearing aid interference and, as a result, improves the listening experience for those who use hearing aids. Further, for the first time, the standard incorporates a volume control requirement that will provide significant benefits to persons with hearing loss, whether or not they use hearing aids. In addition, the new standard covers new technologies and devices and expands the covered frequency range from the current frequency range of 698 MHz to 6 GHz to a new frequency range from 614 MHz to 6 GHz. This expanded frequency range means that handsets operating in the frequencies assigned in the Commission's Broadcast Incentive Auction can also be certified as hearing aid-compatible over those frequencies. The new standard also eliminates the current numerical M/T rating system, which hearing aid users found to be confusing, and replaces it with a more consumer-friendly system. Under this new system, a handset certified as hearing aid-compatible is considered to operate at the equivalent of the M3/T3 levels or better even though the new standard does not use the category rating system. The ANSI committee eliminated the category rating system because hearing aid users found it to be confusing. Under the new standard, a handset is certified as hearing aid-compatible without an assigned rating. Further, the new standard reduces testing burdens for wireless handset manufacturers by allowing certain simple tests be done first to determine compatibility with acoustic coupling, while maintaining an exemption from radiofrequency testing for low power air interfaces. Finally, the new standard also harmonizes with other international hearing aid standards, which helps reduce regulatory burdens for hearing aid manufacturers. Based on these enhancements to the ANSI standard, the Commission finds that incorporating the 2019 ANSI Standard into its rules is in the public interest.

10. The Commission notes that commenters broadly support incorporation of the new standard into its rules. Consumer organizations strongly support implementation of the 2019 ANSI Standard. Industry organizations report that the new standard will encourage competition and advance the public interest and applaud the Commission for ensuring the availability of wireless handsets that will meet the needs of individuals with hearing loss. Industry commenters agree that adopting the new standard will simplify testing and reporting requirements, which will benefit both consumers and manufacturers.

11. Schmid and Partner Engineering AG (Schmid), a manufacturer of hearing aid compatibility testing equipment, raises technical concerns about certain testing requirements for measuring compatibility with acoustic and inductive coupling under the new standard. Specifically, regarding testing of acoustic coupling, Schmid argues that the 2019 ANSI Standard should not permit the use of D-Dot probes for measuring radiofrequency emissions because such probes will lead to inconsistent results, as compared to the use of isotropic probes manufactured by Schmid. With regard to the testing of inductive coupling, Schmid argues that the desired and ambient (noise) undesired T-Coil magnetic field limits set forth in the 2019 ANSI Standard, which Schmid alleges are more restrictive than the limits set forth in the 2011 ANSI Standard, could lead to unclear testing results and increased testing burden and costs.

12. As an initial matter, the Commission notes that both areas of concern were discussed and addressed in the ANSI comment resolution process to the satisfaction of the ANSI Committee, and, thereafter, the committee voted to adopt the new standard. The 2019 ANSI Standard, as with ANSI standards generally, was developed through a voluntary, consensus-driven approach and is broadly supported by both industry and consumer groups.

13. Regarding Schmid's specific concern that allowing D-Dot probes to test acoustic coupling can create inconsistent results, the Commission agrees with commenters that any such uncertainty does not make the use of D-Dot probes unsuitable for testing. All measurements are subject to a certain degree of uncertainty, and labs can factor such uncertainties into their calculations to assess the overall reliability of test results. PCTEST explains that some risks associated with using D-Dot probes were mitigated through revisions to the standard. Moreover, the use of D-Dot probes for testing of acoustic coupling provides certain benefits relative to the use of isotropic probes; in particular, the D-Dot probe is less expensive and more widely available. Further, the Commission notes that the use of D-Dot probes for testing of acoustic coupling is optional under the 2019 ANSI standard, which means that labs can use isotropic probes if they encounter an issue with D-Dot probes. Accordingly, the Commission disagrees with Schmid that the D-Dot probe is unacceptable or that use of isotropic probes should necessarily be preferred.

14. Regarding Schmid's concern about the standard's T-Coil magnetic field limits for testing of inductive coupling, the Commission agrees with commenters that the standard's T-Coil requirements are technically sound as a result of years of study and collaboration. As PCTEST explains, testing during the development of the standard established that the standard's limits are both feasible for manufacturers and tolerable for hearing aid users. Given that the record demonstrates careful consideration of these limits during the ANSI process, the Commission sees no reason for concern with adopting these limits, as part of the 2019 ANSI Standard, into its rules.

15. Finally, with respect to Schmid's concerns about unclear test results and testing burdens and costs, the Commission notes that the new standard was developed over a period of years, subject to five rounds of review, and approved and published by the ANSI Committee in August 2019. The ANSI Committee considers the new standard “a significant advancement” over prior versions and notes that a “continuing goal [is] to keep the testing burden as low as possible and still meet the needs of the standard and, more importantly, of hearing aid wearers.” Julstrom adds that “the requirements laid out in this revision are the result of years of study and collaboration and have been thoroughly vetted.” No other commenter raises concerns about unclear test results or increased burdens and costs. Given this proceeding's record and the years of study and collaboration that went into developing the new standard, the Commission rejects Schmid's concerns. The Commission also notes that, if testing labs request clarification of testing procedures, the Commission's Office of Engineering and Technology (OET) can provide guidance through the issuance of Knowledge Database (KDB) publications.

16. Frequencies Above 6 GHz. Recognizing that the 2019 ANSI Standard, like the 2011 ANSI Standard, does not address frequencies above 6 GHz, the NPRM sought comment on whether hearing aid compatibility testing was needed in higher frequencies. Higher millimeter wave frequencies were not commonly used in mobile handsets at the time that the 2019 ANSI Standard was being developed. However, the NPRM sought comment on whether to continue to exempt handsets operating in frequencies above 6 GHz from the statutory hearing aid compatibility requirements. Based on the record, the Commission declines to lift the exemption that currently excludes frequencies above 6 GHz from hearing aid compatibility requirements.

17. Section 710 of the Communications Act of 1934, as amended, exempts “telephones used with public mobile services” from the hearing aid compatibility requirements, but it directs the Commission to assess periodically the “appropriateness of continuing in effect” the exemption and to revoke or otherwise limit the exemption if certain factors are met. The Commission must revoke or limit the exemption if it determines that: (1) Such revocation or limitation is in the public interest; (2) continuation of the exemption without such revocation or limitation would have an adverse effect on individuals with hearing loss; (3) compliance with the requirements adopted is technologically feasible for the telephones to which the exemption applies; and (4) compliance with the requirements adopted would not increase costs to such an extent that the telephones to which the exemption applies could not be successfully marketed. In conjunction with adopting the Commission's initial requirements for hearing aid compatibility for wireless handsets, the Commission revoked the statutory exemption as to wireless handsets operating below 6 GHz; the Commission has not addressed the exemption with respect to handsets operating on frequencies above 6 GHz.

18. In the past, the Commission generally has relied on an ANSI technical standard to demonstrate technological feasibility. These standards are developed by interested parties—which may include handset manufacturers, service providers, consumer groups, testing bodies, and others—working together to reach a consensus standard that the ANSI Committee presents to the Commission for incorporation into its rules. The Commission has never developed its own technical standard for testing for hearing aid compatibility or modified an existing technical standard. Absent an applicable technical standard that reflects a broad-based agreement as to its utility, soundness, and practicality for implementation, the Commission declines to conclude that compliance with hearing aid compatibility standards for frequencies above 6 GHz is technically feasible or that lifting the statutory exemption is in the public interest. Rather, the Commission requests that the ANSI Committee work with all relevant stakeholders to develop a new standard that addresses hearing aid compatibility in frequencies above 6 GHz.

19. Most commenters addressing this issue agree that the Commission should continue to exempt handset operations in frequencies above 6 GHz from hearing aid compatibility requirements until the ANSI Committee develops a new standard. For example, Samsung maintains that the Commission should defer to the ANSI Committee and only should consider lifting the exemption after ANSI issues a revised standard covering frequencies above 6 GHz. Schmid, however, recommends that the Commission include frequencies above 6 GHz for devices incorporating 5G New Radio FR2 technology to evaluate hearing aid compatibility. Schmid does not explain how the Commission should do so in the absence of a standard that covers such frequencies but states that it is willing to provide the Commission with more information on how it believes these evaluations could be performed. Rather than developing a Commission-derived technical standard for frequencies above 6 GHz, the Commission will continue with its well-established policy of allowing all relevant parties to work through the ANSI process to develop a consensus-driven standard that the Commission may consider for purposes of incorporating into its rules and potentially lifting the current statutory exemption.

20. Certification of Handsets with Non-Covered Operations. As proposed in the NPRM, the Commission will maintain § 20.19(b)(3)(i) of its rules, which provides that a handset model is considered hearing aid-compatible if it is certified as hearing aid-compatible under an applicable technical standard for all covered air interfaces and frequency bands even though the handset may also allow operations on air interfaces and frequency bands not covered by that technical standard. CTIA supports this approach. Further, consistent with past practice, if a handset model certified as hearing aid-compatible under an outdated standard is later submitted for a Class II permissive change, as defined by the Commission's rules, after the end of the transition period that handset model would have to be updated and recertified under the 2019 ANSI Standard.

B. Transition Period

21. Two-Year Transition Period. The Commission adopts the proposal in the NPRM to make the 2019 ANSI Standard the exclusive testing standard after a two-year transition period. The two-year phase-in period for this new standard will begin on the effective date of the final rule. After this two-year transition period expires, handset manufacturers and service providers may only use the 2019 ANSI Standard to certify new handset models as hearing aid-compatible. The Commission previously has relied on a two-year transition period when transitioning to new technical standards. The Commission finds that using a two-year transition period again is in the public interest. A two-year transition period appropriately balances the design, engineering, and marketing requirements of manufacturers and service providers with the needs of consumers with hearing loss.

22. During the two-year transition period, handset manufacturers and service providers may use either the 2011 or the 2019 ANSI Standard when certifying new handset models. This approach is consistent with past practice, and it takes into consideration the typical handset industry product development cycle. There already may be new handset models in the design phase that are based on being certified under the 2011 ANSI Standard rather than the 2019 ANSI Standard. CTIA, PCTEST, and Samsung support a two-year transition period for manufacturers before requiring the exclusive use of the new testing standard. Further, as Samsung and PCTEST state, a two-year transition period will allow sufficient time for test labs and manufacturers to make the upgrades necessary to comply with the new standard.

23. The Commission disagrees with CTIA's suggestion that service providers should be given an additional year to transition to the new testing standard. While CTIA supports a two-year transition period for manufacturers, it argues that service providers need additional time to conduct trials and otherwise to test on their networks those handsets certified under the new standard. CTIA claims that these trials can only begin after manufacturers design and test devices to the new standard; therefore, it requests that the Commission allow service providers an additional 12-month transition period beyond what the Commission is adopting for device manufacturers. In support of its position, CTIA draws an analogy to when the Commission imposes new deployment benchmarks on handset manufacturers and service providers that require them to increase the number of hearing aid-compatible handset models that they offer for sale. CTIA, however, does not cite any Commission precedent for granting service providers additional time to meet a new ANSI standard.

24. Contrary to the situation in which the Commission imposes new handset deployment benchmarks, the Commission is not requiring service providers to offer a certain number of handsets certified under the new ANSI standard and, therefore, there is no need to extend the service provider transition period. Even though after the two-year transition new handset models must be certified as hearing aid-compatible using the new ANSI standard, service providers can continue offering handsets certified under older ANSI standards to meet deployment benchmarks until they are ready to offer handset models certified under the new standard. Further, delaying the service provider transition period by an additional year would delay consumers' receipt of the benefits of the new testing standard, including the much-needed benefits of the new wireless volume control standard. Accordingly, the Commission finds that providing an additional year for service providers to transition to the 2019 ANSI Standard is unnecessary and would not benefit consumers.

25. Exclusive Use of a Standard. Consistent with the Commission's long-established certification practice, manufacturers will continue to be required to test a new handset model exclusively under either the 2011 ANSI Standard or the 2019 ANSI Standard during the transition period. Once the transition period ends, new handset models can only be certified using the 2019 ANSI Standard; these models must meet all aspects of the standard, including the volume control requirements, over all covered frequency bands to be considered hearing aid-compatible.

26. 100% Finding. The Commission also finds that adopting a two-year transition period does not require us at this time to adjust the future timeframe for the Commission to consider whether to require 100% of covered handsets to be hearing aid-compatible. In November 2015, interested parties agreed to form an independent task force or consensus group to provide for a process to move away from the current fractional benchmark regime, with the ultimate goal of 100% compatibility—subject to the Commission's assessment of whether such 100% compatibility is achievable. The task force's final report is presently due by December 31, 2022, and the Commission has stated its intent to make a final determination on whether 100% compatibility is achievable by no later than 2024. In the NPRM, the Commission sought comment on what effect the proposed transition period could have on the 2024 timeframe for it to consider whether to require 100% of covered handsets to be hearing aid-compatible.

27. HIA argues that adoption of the new testing standard should not be used to justify extending the pending 2024 finding. But CTIA and Samsung assert that it is too soon in the transition to assess whether the new standard will affect the Commission's ability to decide by 2024 whether 100% compatibility is achievable. CTIA further contends that the Commission should not make this determination before receiving the task force's recommendation. The Hearing Loss Association of America (HLAA), while not taking a position with respect to extending the date for the pending 100% finding, states that it “strongly believe[s] that one-hundred percent [hearing aid compatibility] offerings should continue to be the goal.” The Commission agrees that 100% compatibility is the goal and that it is too early in the transition to the new ANSI standard for us to determine whether an adjustment to the 100% achievability timeline is warranted. The Commission will continue to monitor the transition to the new ANSI standard. In the meantime, the Commission declines to adjust the 2024 timeframe.

C. Extension of Volume Control Requirement

28. As proposed in the NPRM, the Commission extends the March 1, 2021 deadline in the Commission's volume control rule to align with the start date for exclusive use of the 2019 ANSI Standard. The Commission finds that, given the close proximity of the current volume control deadline, the extension will provide manufacturers additional time to make the handset model design changes needed to meet the volume control requirements. We find good cause to suspend the March 1, 2021, volume control deadline immediately upon adoption of this Report and Order. We take this action to ensure handset manufacturers will not need to comply with this deadline in the event that the rule change's publication in the Federal Register does not occur soon enough in time for the amendment to become effective before the March 1, 2021 deadline. The 2019 ANSI Standard is the first wireless testing standard to implement a volume control requirement, and the record shows that the pending March 1, 2021 deadline does not allow manufacturers sufficient time to implement the volume control requirement that is part of the new ANSI standard. CTIA and Samsung support aligning the volume control deadline with the exclusive use deadline for the new standard. The Commission did not receive comments objecting to this approach.

29. Accordingly, beginning on the date that the 2019 ANSI Standard becomes the exclusive testing standard, all wireless handset models submitted for hearing aid compatibility certification must meet the 2019 ANSI Standard's volume control requirement (as well as the other parts of this standard) in order to be certified as hearing aid-compatible. Handsets submitted for certification under the 2019 ANSI Standard during the two-year transition period similarly must meet the volume control requirement and all other requirements of that standard. The Commission notes, however, that handsets submitted for certification under the 2011 ANSI standard during the transition period will not need to provide volume control capability.

D. Meeting Deployment Benchmarks

30. Consistent with past Commission practice, the Commission adopts its proposal to allow manufacturers and service providers to meet deployment benchmark requirements by counting handset models certified under the 2019 ANSI Standard or earlier versions of the standard (i.e., the 2007 and 2011 versions of the standard) as long as these models are still being offered for sale. If the handset model at issue is still being offered for sale and has been certified as hearing aid-compatible under an applicable ANSI standard, then handset manufacturers and service providers can count that handset for deployment purposes. The decision is consistent with the Commission's standard practice when transitioning to a new or revised technical standard. With respect to the 2019 ANSI Standard, for the handset to be certified as hearing aid-compatible over a covered air interface, the handset must meet the requirements for both acoustic and inductive coupling modes for that air interface, including the volume control requirements. CTIA, PCTEST, and Samsung support this approach, and no commenter opposed this proposal.

31. As more and more handset models become certified under the 2019 ANSI Standard, the Commission expects that handset manufacturers and service providers will replace handset models in their portfolios certified under older versions of the ANSI standard with models certified under the new standard. Handset manufacturers and service providers are required to ensure that 66% of the handset models they offer are hearing aid-compatible, and the Commission anticipates that handsets meeting the 2019 ANSI Standard will be readily available by the end of the transition period. Further, the Commission agrees with commenters that re-testing existing handset models for certification under the 2019 ANSI Standard could be burdensome and redundant. In addition, if the Commission were to deviate from the precedent of grandfathering existing handset models for benchmark purposes, some handset manufacturers and service providers might be pressed to meet the new deployment benchmarks. The Commission declines to jeopardize compliance with the existing and upcoming deployment benchmarks, which also might deter the offering of older hearing aid-compatible handset models to consumers, particularly in the absence of record evidence from consumers advocating that the Commission act in a different manner. For these reasons, the Commission finds it in the public interest to allow handset manufacturers and service providers to meet deployment benchmarks using all handset models certified as hearing aid-compatible as long as these handsets are still offered for sale.

E. Labeling Requirements

32. Consistent with the Congressional directive to ensure that consumers have sufficient information to make informed purchasing decisions when selecting hearing aid-compatible handsets, and in light of the Commission's adoption of the 2019 ANSI Standard and establishment of a transition period, the Commission revises the labeling and disclosure requirements in its rule to make them more informative, consumer-friendly, and less burdensome. Specifically, the Commission revises the organization of § 20.19(f) of its rules to include a part that addresses package labeling requirements and a part that addresses requirements for package inserts and user manuals. Each part includes requirements for the placement and content of information related to the hearing aid compatibility or volume control capability of wireless handsets, relevant to handsets certified under the 2019 ANSI Standard or an earlier version of the ANSI standard. These requirements generally are consistent with the proposals in the NPRM, except that the Commission modifies its volume control labeling proposal to require that the conversational gain of the handset both with and without a hearing aid be placed on the handset's package label. Further, the Commission elaborates on the explanations that must be included in a hearing aid-compatible handset's package insert or user manual.

33. The Commission's current labeling rule is composed of four parts that address what information has to be included on a hearing aid-compatible handset's package label and what other information must be provided to consumers in other formats. The NPRM proposed to reorganize the current labeling rule into three parts rather than four parts. After reviewing the record, the Commission determines that organizing the rule into two parts is more in keeping with its goal of streamlining the rule and making it easier to follow. The Commission finds that this reorganization and the revisions to its labeling rule are in the public interest and consistent with the Commission's Congressional directive to ensure that consumers have sufficient information to make informed purchasing decisions when selecting hearing aid-compatible handsets. The revisions allow consumers to easily compare the different functions of hearing aid-compatible handsets when purchasing a new handset, and they allow handset manufacturers and service providers flexibility in designing their own package labels and conveying supplemental information. Commenters uniformly support the Commission's proposal to streamline and modernize the labeling rule and to make labels, package inserts, and user manuals more informative, consumer-friendly, and less burdensome. The Commission addresses each of these requirements in turn below.

34. Package Label. Consistent with the NPRM, the Commission modifies § 20.19(f)(1)(i) and (ii) to require a hearing aid-compatible handset's package label to expressly state that the handset is hearing aid-compatible and to quantify the handset's volume control capability if the handset is certified using the 2019 ANSI Standard. These requirements ensure that the most pertinent consumer information is placed on the handset's package label. Consumers will be able to quickly ascertain whether a handset is hearing aid-compatible and to identify the handset's volume control capabilities if it is certified using the 2019 ANSI Standard. Consumers who are interested in more detailed information about a handset's capabilities will be able to find this additional information in the user manual or package insert.

35. Section 20.19(f)(1)(i) of the Commission's current rule requires handset manufacturers and service providers to ensure that the package label for hearing aid-compatible handsets identifies the handset as hearing aid-compatible by displaying the handset's ANSI rating. We decline to adopt one commenter's request to change the term “hearing aid-compatible” to “telecoil” or “T-Coil” in our rule. Such a change is unnecessary and may cause further confusion by specifying a single technology. Our use of “hearing aids” or “hearing aid users” refers to “cochlear implants” or “users of cochlear implants.” The Commission's revised rule maintains the requirement that handset manufacturers and service providers identify hearing aid-compatible handsets by requiring the package label to state that the handset is hearing aid-compatible. As proposed in the NPRM, the Commission moves the required disclosure of the ANSI rating from the package label to the package insert or user manual. The Commission makes this change in recognition of the fact that the 2019 ANSI Standard does not use the numerical M/T rating system of older standards. Under the new standard, a handset is assessed as either hearing aid-compatible or not without receiving a numerical rating. Accordingly, the numerical ratings will become less relevant to consumers after the transition period. Further, consumers may not realize that a handset labeled as hearing aid-compatible but without a rating has actually been certified under a more recent testing standard that may provide a better listening experience than a handset with an M/T rating. The ANSI Committee eliminated the numerical M/T rating system to make purchasing a hearing aid-compatible handset more consumer friendly. Finally, handset manufacturers and service providers will be phasing-out handsets that have M/T ratings. The Commission did not receive any comments objecting to this approach. For these reasons, the Commission finds it is in the public interest to move the rating labeling requirement from the package label to the package insert or user manual. Consistent with our current rule, we will continue to require that the ANSI rating that is included in the package insert or user manual be the lowest rating the handset achieves if it has different ratings over its air interfaces or frequency bands.

36. Consistent with the Commission's proposal in the NPRM, it also requires a handset's package label to include the handset's volume control capabilities when the handset has been certified using the 2019 ANSI Standard. Because the 2019 ANSI Standard articulates certain details that are not reflected in the Commission's current volume control label requirement adopted in 2017, certain commenters have asked for clarification of the current volume control label requirement. Specifically, § 20.19(f)(1)(ii) states that, if a “handset has been certified as compliant with a technical standard that specifies acceptable numerical metrics or qualitative ratings for handset volume control, the labeling shall include the relevant volume control metrics or ratings.” Samsung asks the Commission to clarify that a handset is compliant with the volume control label requirement if the label states that it “provides over 6 dB of conversational gain.” PCTEST states that, although it understands the benefits of Samsung's proposal, it would be better for consumers if the Commission required package labels to list the actual amount of conversational gain.

37. The Commission modifies its existing volume control label rule by removing the language regarding metrics and qualitative rating and replacing it with actual conversational gain testing results. The volume control standard that the Commission incorporates into its rules tests for volume control using a conversational gain standard that must be met both with and without hearing aids. Accordingly, the Commission requires handset manufacturers and service providers to include on a hearing aid-compatible handset's package label the handset's actual conversational gain both with and without hearing aids if the handset is certified using the 2019 ANSI Standard. Consistent with § 20.19(f)(1)(ii), in cases where the actual conversational gain with a hearing aid differs depending on the air interfaces or frequency band being used, the package label should include the lowest actual conversational gain with a hearing aid. Having the actual conversational gain both with and without hearing aids on the package label will benefit consumers who use hearing aids and those who do not use hearing aids but have hearing loss.

38. Package Inserts and User Manuals. Consistent with the Commission's labeling proposal, the Commission requires handset manufacturers and service providers to include the following information in package inserts or user manuals for hearing aid-compatible handsets: (1) That the handset is hearing aid-compatible; (2) the ANSI standard used to determine the hearing aid compatibility of the handset model's air interfaces and frequency bands; (3) if using the 2011 ANSI Standard or an earlier version of the standard, the lowest hearing aid compatibility rating assigned to any of the covered air interfaces or frequency bands; (4) the air interfaces or frequency bands on handsets that are not certified to be hearing aid-compatible, if applicable, or have been determined to be hearing aid-compatible under special testing circumstances; and (5) if a handset model was not certified as hearing aid-compatible over all of its air interfaces or frequency bands, a prescribed disclosure notifying consumers of this fact and that they should test the handset thoroughly and in different locations. In addition, consistent with the Commission's current labeling rule, package inserts and user manuals for hearing aid-compatible handsets must include an explanation of the ANSI rating system as well as an explanation of a handset's volume control capabilities. Further, if an air interface has been determined to be hearing aid-compatible under special testing circumstances, the package insert or user manual must disclose this information to consumers and explain how this affects the use and operation of the handset.

39. Further, consistent with the Commission's proposal, it requires package inserts and user manuals to disclose if a handset model has been certified as hearing aid-compatible over some of its air interfaces or frequency bands but not over all of its air interfaces or frequency bands; in such circumstances, the Commission requires that the prescribed disclosure language currently in its rule continues to be used. Also, consistent with the Commission's proposal, it requires that package inserts and user manuals disclose if a handset has been certified as hearing aid-compatible under special testing circumstances. The Commission's current rule does not prescribe specific disclosure language relating to special testing circumstances and the Commission did not propose any specific language in the NPRM to be used in these circumstances. In the case of one specific instance, however, the Commission's current rule does require that special testing circumstance be disclosed to consumers and that the disclosure explain the impact of these special testing circumstances on the use of the handset. While the Commission's current rule gives handset manufacturers and service providers the discretion to provide the above disclosures to consumers through clear and effective means such as the use of call-out cards or other media, revisions to packaging materials, or supplying of information on websites, the Commission now requires that manufacturers and service providers include this information in package inserts or user manuals.

40. The Commission disagrees with comments suggesting that it should relax the above disclosure requirements and allow handset manufacturers and service providers leeway to modify the prescribed disclosure language related to handsets that are not hearing aid-compatible over all of their air interfaces and frequency bands and to determine when and how this language is included. The prescribed disclosure language currently in the Commission's rule has been a part of its hearing aid compatibility labeling rule since 2010 and has worked well to ensure that consumers receive valuable information. It allows consumers to educate themselves about the functions and capabilities of hearing aid-compatible handsets and to compare handset models. Further, it protects consumers by using uniform language that is consistent among manufacturers and service providers, and it guarantees notice to consumers to test the handset thoroughly before purchasing it. For instance, this requirement would benefit consumers who are interested in a hearing aid-compatible handset that includes non-certified air interfaces operating in frequencies above 6 GHz. In this example, handset manufacturers and service providers must include the required disclosure language in order to make sure that consumers are aware that some of the handset's operations are not certified as hearing aid-compatible under an applicable ANSI standard. The Commission also finds that it is in the public interest for handset manufacturers and service providers to inform consumers when a handset model has been certified as hearing aid-compatible under special testing circumstances and what impact these special testing circumstances have on the use of the handset.

41. The Commission finds that the information that it is requiring to be included in package inserts and user manuals is not too granular, as some commenters argue, and that this information serves a useful purpose. CTIA and Samsung urge the Commission to give manufacturers and service providers more flexibility in the methods used to convey information on a handset's hearing aid compatibility and volume control capabilities, including providing this information online rather than in the packaging insert or user manual. The Commission agrees with HLAA, however, that consumers may not necessarily visit service provider websites before going to a service provider's store and purchasing a hearing aid-compatible handset. Therefore, the Commission requires that package inserts and user manuals be provided with hearing aid compatible handsets that include the information outlined above and that this information not just be provided online. By requiring the above information to be included in package inserts and user manuals, the Commission ensures that consumers have access to this material. Handset manufacturers and service providers are also free to provide this information on their publicly accessible websites, and we believe that doing so will benefit consumers by giving them another way to locate information about hearing aid-compatible handsets.

42. The Commission's current rule requires that package inserts and user manuals provide an explanation of the ANSI and volume control rating systems. The Commission finds it in the public interest to continue these requirements. Further, the Commission agrees with HLAA that package inserts and user manuals should explain the old ANSI rating system and the transition to the new system. Given the transition from the M/T rating system, the Commission finds that this information will be helpful to consumers as they educate themselves on the differences between hearing aid-compatible handsets. Likewise, an explanation of a handset's volume control capabilities will also be helpful to consumers as they make purchasing decisions.

43. Finally, the Commission declines to adopt call-out card requirements that would require handset manufacturers and service providers to post certain information about their hearing aid-compatible handsets on display in their stores. HLAA asserts that the Commission's labeling requirement should require the use of call-out cards at the point of sale indicating whether a handset is hearing aid-compatible. CTIA urges the Commission not to impose additional labeling requirements on manufacturers and service providers, including the imposition of in-store printed material requirements. The Commission's current labeling rule does not require the use of call-out cards, and the Commission did not propose to require the use of call-out cards. The Commission declines to further increase the labeling burden on manufacturers and service providers.

F. Service Provider In-Store Testing Requirement

44. The NPRM sought comment on whether the Commission should retain § 20.19(d)(4)(i), which requires service providers to make handsets available to consumers for in-store testing. Specifically, this section provides that “[e]ach service provider must make available for consumers to test, in each retail store owned or operated by the provider, all of its handset models that [it offers that are hearing aid-compatible].” HIA and HLAA urge the Commission to maintain this requirement and the Commission did not receive any comments objecting to it maintaining this requirement. The Commission agrees with HIA and HLAA that it is in the public interest to maintain the service provider in-store testing requirement. Live in-store testing permits consumers to undertake a preliminary, but important, evaluation of the volume and interference levels of a given handset and minimizes the “hassle” associated with returning the handset at a later time. Further, this requirement is consistent with the Commission's mandatory disclosure language that encourages consumers to test handsets before making a purchase. Finally, preserving this requirement may allow consumers to avoid a restocking fee. The Commission finds that keeping the service provider in-store testing requirement in place ensures that those with hearing loss have a meaningful opportunity and sufficient time to identify and become comfortable with a handset before purchasing it.

G. Other Rule Changes and Removing Outdated Rules

45. Diverse Handset Offerings. The Commission adopts the Commission's proposal to eliminate the “refresh” and “differing levels of functionality” requirements set forth in § 20.19(c)(1)(ii), (c)(4)(ii), and (d)(4)(ii), which require handset manufacturers and service providers to update their selection of hearing aid-compatible handsets periodically. Under the “differing levels of functionality” and “refresh” rules, manufacturers and service providers must offer hearing aid-compatible handsets that contain the same range of features and functions contained in handsets offered to hearing people. This rule was adopted to ensure that people with hearing loss have similar choices in types of handsets as consumers without hearing loss. The Commission's current benchmark deployment rules, however, render these rules unnecessary, and the Commission eliminates these requirements from its rules, including the requirement that service providers make available on their websites information about the “differing levels of functionality” of each handset they offer. The Commission's current deployment benchmarks require 66% of handsets to be hearing aid-compatible and, in the near future, will require 85% of all handsets to be hearing aid-compatible. The Commission's deployment benchmarks ensure that consumers with hearing loss have robust choices in hearing aid-compatible handsets. CTIA and Samsung agree that these requirements are no longer necessary given the large number of hearing aid-compatible handsets on the market.

46. HLAA warns that eliminating these requirements could reduce the incentives for manufacturers and service providers to offer new hearing aid-compatible handsets; it asserts that these requirements should stay in place until service providers are required to offer 100% hearing aid-compatible handsets. The Commission finds, however, that its deployment benchmarks will ensure that manufacturers and service providers continue to have incentives to offer hearing aid-compatible handsets. The Commission adopted the “refresh” and “differing levels of functionality” requirements at a time when its deployment benchmarks were much lower. At that time, there was a need to ensure handset manufacturers and service providers met their deployment benchmarks using a diverse mixture of handsets rather than relying exclusively on entry level or top-of-the line offerings. The Commission's current deployment benchmarks have eliminated this concern. In fact, handset manufacturer compliance reports show that more than 89% of the new handset models manufacturers offered between August 1, 2019 and June 30, 2020 are hearing-aid compatible. Some manufacturers, such as Samsung, ensure that all of their handsets are hearing aid-compatible. Given these facts, the Commission eliminates the “refresh” and “differing levels of functionality” requirements in § 20.19(c)(1)(ii), (c)(4)(ii), and (d)(4)(ii) because they no longer serve their intended purpose.

47. Certification and Reporting Dates. The Commission adopts its proposal to revise the date by which service providers must file certifications of compliance with the Commission's hearing aid compatibility provisions and the date that manufacturers must file compliance reports pursuant to § 20.19(i)(1). Presently, service providers must file a short form certifying that they are in compliance with the Commission's hearing aid compatibility provisions by January 15 each year, and handset manufacturers must file a longer form showing compliance with these provisions by July 15 each year. The filing window for the certifications and reports opens 30 days prior to the filing deadline. The Commission uses these certifications and reports as the primary method of ensuring that handset manufacturers and service providers are complying with the Commission's hearing aid compatibility rules.

48. Section 20.19(i)(1) requires that each certification and report must be up-to-date as of the last day of the calendar month preceding the due date of each certification or report. To ensure that service providers' certifications and handset manufacturers' reports meet this requirement, the Commission moves the service provider certification due date from January 15 to January 31 each year and the handset manufacturer report due date from July 15 to July 31 each year. If January 31 or July 31 fall on a weekend, the due date for the certification or report will be the first business day immediately following the weekend. These revised filing deadlines mean that the filing window for service providers will open the first business day in January and the filing window for manufacturers will open the first business day in July. This change will ensure that the certifications and reports are up-to-date as of the last day of the calendar month preceding the due date of each report and certification. In addition to moving the compliance filing dates, we also change the compliance filing requirement for manufacturers to read that they “shall submit Form 655 reports on compliance with the requirements of this section . . . .” Currently, this requirement reads that they “shall submit [Form 655] reports on efforts toward compliance with the requirements of this section . . . .” 47 CFR 20.19(i)(1) (emphasis added). This change matches the language used for service providers and the “efforts toward” compliance language is unnecessary in that “reports on compliance” necessarily includes “efforts toward compliance.” This change also takes into consideration the national holidays at the beginning of January and July. CTIA and Samsung support these changes, and no commenter opposed these revisions.

49. Removal of Outdated Rules. The Commission adopts its proposal to remove from the hearing aid compatibility rules past transition dates and outdated benchmarks, and to correct clerical errors in the rules. These modifications to the hearing aid compatibility provisions will simplify the rules and make them easier to read and understand. CTIA and Samsung support these changes and no commenter opposed these revisions.

50. Section 68.300. The Commission also adopts its proposal to make a technical correction to § 68.300 of the Commission's rules that addresses hearing aid-compatible labeling requirements for wireline telephones. This correction restores a definition that was erroneously deleted from prior versions of the rule. No one filed comments on this proposed correction. When the Commission amended part 68 of the rules in 2000 to remove various provisions pertaining to registration of terminal equipment connected to the public switched telephone network, it appears that a definition of the term “permanently affixed,” which is relevant to the labeling requirement, was inadvertently deleted. To address this technical error, the Commission amends § 68.300(b) to include the same definition currently provided in § 68.502(a) for “permanently fixed.”

51. Permanently affixed means that the label is etched, engraved, stamped, silkscreened, indelibly printed, or otherwise permanently marked on a permanently attached part of the equipment or on a nameplate of metal, plastic, or other material fastened to the equipment by welding, riveting, or a permanent adhesive. The label must be designed to last the expected lifetime of the equipment in the environment in which the equipment may be operated and must not be readily detachable. The Commission also deletes from § 68.300 the stated compliance date of April 1, 1997, given the length of time that has passed since that date and given that no one commented on this proposed deletion.

Final Regulatory Flexibility Analysis

52. As required by the Regulatory Flexibility Act of 1980, as amended (RFA), an Initial Regulatory Flexibility Analysis (IRFA) was incorporated in the 2020 ANSI Standard NPRM released in January 2020. The Commission sought written public comment on the proposals in the 2020 ANSI Standard NPRM, including comments on the IRFA. The Commission did not receive comments specifically directed as a response to the IRFA. This present Final Regulatory Flexibility Analysis (FRFA) conforms to the RFA.

Need for, and Objectives of, the Report and Order

53. In the Report and Order, the Commission incorporates the 2019 ANSI Standard as the exclusive technical standard for evaluating the hearing aid compatibility of wireless handsets. In addition to including a volume control standard as part of the new standard, the 2019 ANSI Standard requires testing that will improve a hearing aid user's experience, including those who use cochlear implants. The new standard addresses new technologies and devices operating in the frequency range of 614 MHz to 6 GHz, harmonizes testing methodologies with international standards, and uses a simple set of requirements and thresholds rather than the M/T rating system used by the 2011 ANSI Standard to determine hearing aid compatibility. The Commission anticipates that using the 2019 ANSI Standard to determine whether a handset is hearing aid-compatible for purposes of the Commission's rules will serve the public interest by establishing standards for new devices and operations over additional frequency bands. New testing methodologies in the 2019 ANSI Standard should also improve the measurement of potential hearing aid interference. The new standard no longer uses the M/T category system, achieves harmonization with other hearing aid standards, and changes several testing procedures meant to improve the consumer experience and reduce testing burdens.

54. The Report and Order adopts a two-year transition period for manufacturers and service providers before requiring the exclusive use of the new standard and aligns the volume control implementation deadline with the end of this two-year transition. The Report and Order allows manufacturers and service providers to continue to meet deployment benchmarks with any handset certified as hearing aid-compatible, regardless of the ANSI standard that was used for certification purposes. Consistent with the hearing aid-compatibility rule that was in effect prior to adoption of the Report and Order, the new rules: (i) Require that a handset's package label indicate that the phone is hearing aid compatibility compliant and must provide the handset's amplification capability if the handset is certified using the 2019 ANSI Standard, including actual conversational gain both with and without hearing aids if the handset is certified using the 2019 ANSI Standard and the handset's volume control capabilities when the handset has been certified using the 2019 ANSI Standard; (ii) require that the user manual or package insert display the handset's ANSI rating and include information explaining the change in the hearing aid-compatibility rating system under the new standard; and (iii) include a prescribed disclosure when a handset meets hearing aid compatibility standards on some of its air interfaces, but not on all of its air interfaces. The Report and Order also maintains the in-store testing requirement applicable to service providers so that those with hearing loss have an opportunity to become comfortable with a handset before purchasing it.

55. Finally, the Report and Order streamlines the wireless hearing aid compatibility rules by eliminating unnecessary and outdated provisions. For example, the Report and Order simplifies the labeling rules to remove the “refresh” and “differing levels of functionality” requirements and to delete references to implementation dates and benchmarks that have passed. Eliminating these references will simplify the rules and make them easier to read and understand. The Report and Order also aligns the definition of “permanently affixed” to ensure that hearing aid compatibility labeling requirements are consistent for both PSTN telephones and telephonic customer premises equipment used for advanced communications services. Additionally, the Report and Order moves the compliance filing deadlines from January 15 to January 31 for service providers and from July 15 to July 31 for manufacturers.

Response to Comments by the Chief Counsel for Advocacy of the Small Business Administration

56. Pursuant to the Small Business Jobs Act of 2010, which amended the RFA, the Commission is required to respond to any comments filed by the Chief Counsel for Advocacy of the Small Business Administration (SBA) and to provide a detailed statement of any change made to the proposed rules as a result of those comments.

57. The Chief Counsel did not file comments in response to the proposed rules in this proceeding.

List of Small Entities to Which the Rules Will Apply

58. The rules adopted in this document will affect the following types of small entities:

Radio and Television Broadcasting and Wireless Communications Equipment Manufacturing.

Part 15 Handset Manufacturers.

Wireless Telecommunications Carriers (except Satellite).

Wireless Resellers.

Description of Projected Reporting, Recordkeeping, and Other Compliance Requirements for Small Entities

59. The rule changes adopted in the Report and Order may impose some new reporting, recordkeeping, or other compliance requirements on some small entities. The Report and Order adopts the 2019 ANSI Standard as the exclusive technical standard for evaluating if a wireless handset is hearing aid-compatible under the Commission's rules. The new standard reduces the testing burden, uses a simple set of limits rather than the M/T category system for handsets as well as hearing aids, achieves harmonization with other hearing aid standards, and makes some additional test procedure-related changes to improve the consumer experience.

60. The Report and Order replaces the 2011 ANSI Standard with the 2019 ANSI Standard after a two-year transition period. During the transition period, handset models meeting either the 2011 ANSI Standard or 2019 ANSI Standard will continue to be certified as hearing aid-compatible by handset manufacturers and service providers under the Commission's rules. Certifications issued before and within the transition period, including certifications under the 2011 ANSI Standard and any earlier versions of ANSI C63.19, will remain hearing aid-compatible. As a result, manufacturers will not need to retest or recertify existing handset models as hearing aid-compatible. The Report and Order also harmonizes the deadline for exclusive use of the new standard with the March 1, 2021 volume control deadline required by the Commission's current rules.

61. The adoption of the 2019 ANSI Standard for wireless handsets and elimination of the currently applicable standard after a transition period will alter the compliance obligations of wireless handset manufacturers and service providers that are small entities, as well as all other wireless handset manufacturers and service providers, by requiring them to use a different method for testing and evaluating wireless handset compliance, including with a new volume control requirement.

62. The 2019 ANSI Standard applies to wireless handsets in a wider frequency range—from 614 MHz to 6 GHz—as compared to the 2011 ANSI Standard's frequency range of 698 MHz to 6 GHz. The Report and Order states that a handset operating only in the ranges specified in the standard would need to satisfy the standard for all frequency bands and air interfaces over which it operates. Because the hearing aid compatibility rules (e.g., labeling and certification) apply to handsets certified under the new standard using the new frequency range (except as specified in the de minimis exception), small entities that did not previously have to comply with the requirements may be subject to new obligations.

63. Before adoption of the Report and Order, subject to a de minimis exception, handset manufacturers and service providers were required to offer a minimum number of hearing aid-compatible handsets for each covered air interface over which its models operate. Depending on the type and size of an entity and the point in time, manufacturers and providers must ensure that either 66% or 85% of their handset models are hearing aid-compatible. Under the rules adopted by the Report and Order, manufacturers and service providers may meet their requirement to offer minimum numbers of hearing aid-compatible handsets with handsets certified under either the 2019 or 2011 ANSI Standards, or an earlier standard. Consequently, small entities will not have to recertify existing handsets and incur additional compliance costs.

64. The Report and Order simplifies the current labeling requirements so that consumers will have the information that they need in order to easily understand and evaluate the hearing aid compatibility of a particular handset. Handset manufacturers and service providers are able to design their own package labels and provide supplemental information in a way that best meets their needs. For hearing aid-compatible handsets, the handset's package label must state that the handset is hearing aid-compatible and must provide the handset's amplification capability if the handset is certified using the 2019 ANSI Standard. The Report and Order also requires handset manufacturers and service providers to include in package inserts or user manuals more detailed information about the hearing aid compatibility of the handset, including information about the ANSI standard used, an explanation of the ANSI rating system, and an explanation of a handset's volume control amplification capabilities.

65. The Report and Order maintains the current in-store testing obligation applicable to service providers so that those with hearing loss have an opportunity to become comfortable with a handset before purchasing it.

66. The Report and Order also revises § 20.19(c) to delete the “refresh” and “differing levels of functionality” requirements, which require manufacturers to refresh the hearing aid-compatible handset models they offer each year and require service providers to offer a range of hearing aid-compatible handset models with differing levels of functionality, respectively. The Commission's current deployment benchmarks require 66% of handsets to be hearing aid-compatible and, in the near future, will require 85% of all handsets to be hearing aid-compatible. The Commission's deployment benchmarks ensure that consumers have robust choices among hearing aid-compatible handsets and confirm that its decision to eliminate the “refresh” and “differing levels of functionality” requirements will not adversely affect consumers. Removing unnecessary provisions such as these could streamline compliance requirements, which could reduce the cost of compliance for small entities.

67. The date that service providers must file certifications of compliance with the Commission's hearing aid compatibility provisions and the date that manufacturers must file compliance reports is also revised in Report and Order. Prior to adoption of the Report and Order, service provider certifications were due January 15 each year and manufacturer reports were due July 15 each year. The Report and Order moves these dates to January 31 and July 31, respectively, to ensure that service provider certifications and manufacturer reports are up-to-date as of the last day of the calendar month preceding the due date of each report and certification.

68. Small entities may be required to hire attorneys, engineers, consultants, or other professionals to comply with the rule changes adopted in the Report and Order. The Commission does not believe, however, that the costs and/or administrative burdens associated with any of the rule changes will unduly burden small entities because the adopted 2019 ANSI Standard for evaluating the hearing aid compatibility of wireless handsets was developed in collaboration with the industry through a voluntary, consensus-driven approach and is broadly supported by the industry, and expanding the frequency bands covered by the standard and replacing the current rating system will reduce regulatory burdens for handset manufacturers and service providers. While the Commission cannot quantify the cost of compliance with the rule changes and compliance obligations adopted in the Report and Order, in the 2020 ANSI Standard NPRM the Commission requested cost and benefit analyses from the parties in the proceeding to help it identify and evaluate compliance costs and burdens for small entities that may result from the proposed rules and the matters on which the Commission requested comments. The Commission did not receive any comments, cost data or analyses on the impact of the rules and other matters on small entities.

Significant Alternatives Considered

69. Regarding the alternatives the Commission considered in adopting the final rules, the Commission notes that it declined to modify the 2019 ANSI Standard as requested by Schmid and Partner Engineering AG (Schmid). The record indicated that the Schmid requests were already considered and mitigated in 2019 ANSI standards the Commission adopted. The Commission also declined to lift the statutory exemption that currently excludes frequencies above 6 GHz from hearing aid compatibility requirements, choosing instead to allow the ANSI Committee, in coordination with relevant industry participants, to develop a consensus-driven standard for these frequencies that the Commission can incorporate into its rules when the new standard is available. In addition, the Commission declined to add a call-out card requirement to its labeling requirement as suggested by the Hearing Loss Association of America (HLAA). The addition of such a requirement would have mandated the use of call-out cards at the point of sale indicating whether a handset is hearing aid-compatible which would have increased the economic costs of compliance with the Commission's labeling requirements for small entities and other handset manufacturers and service providers, and it declined to do so.

70. In the Report and Order the Commission sought to balance the potential economic impact and burdens that small entity manufacturers and service providers might face in light of the new 2019 ANSI Standard with the need to ensure that Americans with hearing loss can access a wide array of handsets with emerging technologies in the same manner as those without hearing loss. The Commission believes its actions in the Report and Order accomplish this objective.

Ordering Clauses

71. Accordingly, it is ordered, pursuant to sections 4(i), 303(r), and 710 of the Communications Act of 1934, as amended, 47 U.S.C. 154(i), 303(r), 610, this Report and Order is hereby adopted.

72. It is further ordered that the March 1, 2021 deadline included within § 20.19(b)(1) and (f)(1)(ii) is suspended, effective upon adoption of this Report and Order.

73. It is further ordered that the revisions to part 20 of the Commission's rules, 47 CFR part 20, as set forth in the Final Rules are adopted, effective thirty days from the date of publication in the Federal Register, except that the amendments to § 20.19(f), (h)(1), and (i) will become effective following approval by the Office of Management and Budget. Section 20.19(f), (h)(1), and (i) contain new or modified information collection requirements that require review by the Office of Management and Budget under the PRA. The Commission will publish a document in the Federal Register announcing the effective date of the revisions to § 20.19(f), (h)(1), and (i), following approval by the Office of Management and Budget.

74. It is further ordered that the Commission's Consumer and Governmental Affairs Bureau, Reference Information Center, shall send a copy of this Report and Order, including the Final Regulatory Flexibility Analysis, to the Chief Counsel for Advocacy of the Small Business Administration.

List of Subjects

47 CFR Part 2

Administrative practices and procedures, Communications equipment.

47 CFR Part 20

Administrative practices and procedures, Communications equipment, Incorporation by reference.

47 CFR Part 68

Administrative practices and procedures, Communications equipment.

Federal Communications Commission.
Marlene Dortch,
Secretary, Federal Communications Commission.

Final Rules

For the reasons discussed in the preamble, the Federal Communications Commission amends 47 CFR parts 2, 20, and 68 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.1033 by revising paragraph (d) to read as follows:

§ 2.1033 Application for certification.

* * * * *

(d) Applications for certification of equipment operating under part 20 of this chapter, that a manufacturer is seeking to certify as hearing aid-compatible, as set forth in § 20.19 of this chapter, shall include a statement indicating compliance with the test requirements of § 20.19 of this chapter. The manufacturer of the equipment shall be responsible for maintaining the test results.

* * * * *

PART 20—COMMERCIAL MOBILE RADIO SERVICES

3. The authority citation for part 20 is revised to read as follows:

Authority: 47 U.S.C. 151, 152(a), 154(i), 155, 157, 160, 201, 214, 222, 251(e), 301, 302, 303, 303(b), 303(r), 307, 307(a), 309, 309(j)(3), 316, 316(a), 332, 610, 615, 615a, 615b, and 615c, unless otherwise noted.

4. Amend § 20.19 by:

a. Revising paragraphs (a), (b), and (c);

b. Removing and reserving paragraph (d);

c. Revising paragraph (e);

d. Removing and reserving paragraph (f)(1)(ii); and

e. Revising paragraphs (g), (h)(2)(ii), (h)(5), (k), and (l).

The revisions read as follows:

§ 20.19 Hearing aid-compatible mobile handsets.

(a) Definitions. For purposes of this section:

2007 ANSI standard refers to the technical standard for hearing aid compatibility applicable to frequencies between 800 MHz and 3 GHz as set forth in ANSI C63.19-2007.

2011 ANSI standard refers to the technical standard for hearing aid compatibility applicable to frequencies between 698 MHz and 6 GHz as set forth in ANSI C63.19-2011.

2019 ANSI standard refers to the technical standard for hearing aid compatibility applicable to frequencies between 614 MHz and 6 GHz as set forth in ANSI C63.19-2019.

ANSI standard refers to the 2007, 2011, and 2019 ANSI standards as a group.

Any version of the ANSI standard previous to the 2019 ANSI standard refers to the 2007 and 2011 ANSI standards.

Digital mobile service refers to a terrestrial mobile service that enables two-way real-time voice communications among members of the public or a substantial portion of the public, including both interconnected and non-interconnected voice over internet protocol (VoIP) services, to the extent that such service is provided over frequencies specified in the 2007 ANSI standard, 2011 ANSI standard or the 2019 ANSI standard.

Handset refers to a device used in delivery of digital mobile service in the United States that contains a built-in speaker and is typically held to the ear in any of its ordinary uses.

Manufacturer refers to a manufacturer of handsets that are used in delivery of digital mobile service, as defined in this section, in the United States.

Model refers to a wireless handset device that a manufacturer has designated as a distinct device model, consistent with its own marketing practices. However, if a manufacturer assigns different model device designations solely to distinguish units sold to different carriers, or to signify other distinctions that do not relate to either form, features, or capabilities, such designations shall not count as distinct models for purposes of this section.

Service provider refers to a provider of digital mobile service, as defined in this section, in the United States.

Tier I carrier refers to a CMRS provider that offers such service nationwide.

Volume control requirements refers to the technical standard established by ANSI/TIA-5050-2018.

(b) Hearing aid compatibility; technical standards—(1) Handset compatibility on or after June 5, 2023. In order to satisfy a manufacturer or service provider's obligations under paragraphs (c) and (d) of this section, a handset submitted for equipment certification or for a permissive change relating to hearing aid compatibility on or after June 5, 2023 must meet the 2019 ANSI standard.

(2) Handset compatibility before June 5, 2023. In order to satisfy a manufacturer or service provider's obligations under paragraphs (c) and (d) of this section, a handset submitted for equipment certification or for a permissive change relating to hearing aid compatibility before June 5, 2023 must meet either:

(i) At a minimum, the M3 and T3 ratings associated with the 2011 ANSI standard; or

(ii) The 2019 ANSI standard.

(3) Handsets operating over multiple frequency bands or air interfaces. (i) Beginning on June 5, 2023, a handset is hearing aid-compatible if it meets the 2019 ANSI standard for all frequency bands that are specified in the ANSI standard and all air interfaces over which it operates on those frequency bands, and the handset has been certified as compliant with the test requirements for the 2019 ANSI standard pursuant to § 2.1033(d) of this chapter.

(ii) Before June 5, 2023, a handset that uses only the frequencies specified in the 2011 ANSI standard is hearing aid-compatible with regard to radio frequency interference and inductive coupling if it meets the 2011 ANSI standard for all frequency bands and air interfaces over which it operates, and the handset has been certified as compliant with the test requirements for the 2011 ANSI standard pursuant to § 2.1033(d) of this chapter. Before June 5, 2023, a handset that incorporates operations outside the frequencies specified in the 2011 ANSI standard is hearing aid-compatible if the handset otherwise satisfies the requirements of this paragraph (b).

(4) Factual questions. All factual questions of whether a handset meets the technical standard(s) of this paragraph (b) shall be referred for resolution to the Chief, Office of Engineering and Technology, Federal Communications Commission, 45 L Street NE, Washington, DC 20554.

(5) Certification. A handset certified under any version of the ANSI standard previous to the 2019 ANSI standard remains hearing aid-compatible for purposes of this section.

(c) Phase-in of hearing aid-compatibility requirements. The following applies to each manufacturer and service provider that offers handsets used to deliver the services specified in paragraph (a) of this section and that does not fall within the de minimis exception set forth in paragraph (e) of this section.

(1) Manufacturers—Number of hearing aid-compatible handset models offered. For each digital air interface for which it offers handsets in the United States or imported for use in the United States, each manufacturer must offer hearing aid compatible handsets as follows:

(i) Beginning October 3, 2018, at least sixty-six (66) percent of those handset models (rounded down to the nearest whole number) must be hearing aid-compatible under paragraph (b) of this section.

(ii) Beginning October 4, 2021, at least eighty-five (85) percent of those handset models (rounded down to the nearest whole number) must be hearing aid-compatible under paragraph (b) of this section.

(2) Tier I carriers—Number of hearing aid-compatible handsets models offered. For each digital air interface for which it offers handsets to customers, each Tier I carrier must:

(i) Beginning April 3, 2019, ensure that at least sixty-six (66) percent of the handset models it offers are hearing aid-compatible under paragraph (b) of this section, calculated based on the total number of unique handset models the carrier offers nationwide.

(ii) Beginning April 4, 2022, ensure that at least eighty-five (85) percent of the handset models it offers are hearing aid-compatible under paragraph (b) of this section, calculated based on the total number of unique handset models the carrier offers nationwide.

(3) Service providers other than Tier I carriers—Number of hearing aid-compatible handsets models offered. For each digital air interface for which it offers handsets to customers, each service provider other than a Tier I carrier must:

(i) Beginning April 3, 2020, ensure that at least sixty-six (66) percent of the handset models it offers are hearing aid-compatible under paragraph (b) of this section, calculated based on the total number of unique handset models the carrier offers.

(ii) Beginning April 3, 2023, ensure that at least eighty-five (85) percent of the handset models it offers are hearing aid-compatible under paragraph (b) of this section, calculated based on the total number of unique handset models the carrier offers.

(4) In-store testing. All service providers must make available for consumers to test, in each retail store owned or operated by the service provider, all of its handset models that are hearing aid-compatible under paragraph (b) of this section.

* * * * *

(e) De minimis exception. (1)(i) Manufacturers or service providers that offer two or fewer handsets in an air interface in the United States are exempt from the requirements of this section in connection with that air interface, except with regard to the reporting and certification requirements in paragraph (i) of this section. Service providers that obtain handsets only from manufacturers that offer two or fewer handset models in an air interface in the United States are likewise exempt from the requirements of this section other than paragraph (i) of this section in connection with that air interface.

(ii) Notwithstanding paragraph (e)(1)(i) of this section, manufacturers that have had more than 750 employees for at least two years and service providers that have had more than 1500 employees for at least two years, and that have been offering handsets over an air interface for at least two years, that offer one or two handsets in that air interface in the United States must offer at least one handset model that is hearing aid-compatible under paragraph (b) of this section in that air interface. Service providers that obtain handsets only from manufacturers that offer one or two handset models in an air interface in the United States, and that have had more than 750 employees for at least two years and have offered handsets over that air interface for at least two years, are required to offer at least one handset model in that air interface that is hearing aid-compatible under paragraph (b) of this section. For purposes of this paragraph (e)(1)(ii), employees of a parent, subsidiary, or affiliate company under common ownership or control with a manufacturer or service provider are considered employees of the manufacturer or service provider. Manufacturers and service providers covered by this paragraph (e)(1)(ii) must also comply with all other requirements of this section.

(2) Manufacturers or service providers that offer three handset models in an air interface must offer at least one handset model that is hearing aid-compatible under paragraph (b) of this section in that air interface. Service providers that obtain handsets only from manufacturers that offer three handset models in an air interface in the United States are required to offer at least one handset model in that air interface that is hearing aid-compatible under paragraph (b) of this section.

(3) Manufacturers that offer four or five handset models in an air interface must offer at least two handset models that are hearing aid-compatible under paragraph (b) of this section in that air interface. Tier I carriers who offer four handset models in an air interface must offer at least two handsets that are hearing aid-compatible under paragraph (b) of this section in that air interface and Tier I carriers who offer five handset models in an air interface must offer at least three handsets that are hearing aid-compatible under paragraph (b) of this section in that air interface. Service providers, other than Tier I carriers, who offer four handset models in an air interface must offer at least two handset models that are hearing aid-compatible under paragraph (b) of this section in that air interface and service providers, other than Tier I carriers, who offer five handset models in an air interface must offer at least three handsets that are hearing aid-compatible under paragraph (b) of this section in that air interface.

* * * * *

(g) Model designation requirements. Where a manufacturer has made physical changes to a handset that result in a change in the hearing aid compatibility rating under the 2011 ANSI standard or an earlier version of the standard, the altered handset must be given a model designation distinct from that of the handset prior to its alteration.

(h) * * *

(2) * * *

(ii) A clearly marked list of hearing aid-compatible handset models that are no longer offered if the calendar month/year that model was last offered is within 24 months of the current calendar month/year along with the information listed in paragraph (h)(1) of this section for each hearing aid-compatible handset.

* * * * *

(5) Service providers must maintain internal records including the ratings, if applicable, of all hearing aid-compatible and non-hearing aid-compatible models no longer offered (if the calendar month/year that model was last offered is within 24 months of the current calendar month/year); for models no longer offered (if the calendar month/year that model was last offered is within 24 months of the current calendar month/year), the calendar months and years each hearing aid-compatible and non-hearing aid-compatible model was first and last offered; and the marketing model name/number(s) and FCC ID number of each hearing aid-compatible and non-hearing aid-compatible model no longer offered (if the calendar month/year that model was last offered is within 24 months of the current calendar month/year).

* * * * *

(k) Delegation of rulemaking authority. (1) The Chief of the Wireless Telecommunications Bureau and the Chief of the Office of Engineering and Technology are delegated authority to issue, consistent with any applicable requirements of 5 U.S.C. 553, an order amending this section to the extent necessary to adopt technical standards for additional frequency bands and/or air interfaces upon the establishment of such standards by ANSI Accredited Standards Committee C63®, provided that the standards do not impose with respect to such frequency bands or air interfaces materially greater obligations than those imposed on other services subject to this section. Any new obligations on manufacturers and Tier I carriers pursuant to paragraphs (c) through (i) of this section as a result of such standards shall become effective no less than one year after release of the order adopting such standards and any new obligations on other service providers shall become effective no less than 15 months after the release of such order, except that any new obligations on manufacturers and service providers subject to paragraph (e)(1)(ii) of this section shall become effective no less than two years after the release of such order.

(2) The Chief of the Wireless Telecommunications Bureau and the Chief of the Office of Engineering and Technology are delegated authority, by notice-and-comment rulemaking if required by statute or otherwise in the public interest, to issue an order amending this section to the extent necessary to approve any version of the technical standards for radio frequency interference, inductive coupling, or volume control adopted subsequently to the 2007 ANSI standard for use in determining whether a wireless handset meets the appropriate rating over frequency bands and air interfaces for which technical standards have previously been adopted either by the Commission or pursuant to paragraph (k)(1) of this section. This delegation is limited to the approval of changes to the technical standards that do not raise major compliance issues. Further, by such approvals, the Chiefs may only permit, and not require, the use of such subsequent versions of the technical standards to establish hearing aid compatibility.

(l) Incorporation by reference. The standards required in this section are incorporated by reference into this section with the approval of the Director of the Federal Register under 5 U.S.C. 552(a) and 1 CFR part 51. All approved material is available for inspection at the Federal Communications Commission (FCC), 45 L Street NE, Reference Information Center, Room 1.150, Washington, DC 20554, (202) 418-0270, and is available from the source indicated in this paragraph (l). It is also available for inspection at the National Archives and Records Administration (NARA). For information on the availability of this material at NARA, email fedreg.legal@nara.gov or go to www.archives.gov/federal-register/cfr/ibr-locations.html.

(1) IEEE Standards Association (IEEE-SA), 445 Hoes Lane, Piscataway, NJ 08854-4141, (732) 981-0060, stds-info@ieee.org, https://standards.ieee.org/.

(i) ANSI C63.19-2007, American National Standard Methods of Measurement of Compatibility Between Wireless Communication Devices and Hearing Aids, approved June 8, 2007.

(ii) ANSI C63.19-2011, American National Standard Methods of Measurement of Compatibility Between Wireless Communication Devices and Hearing Aids, approved May 27, 2011.

(iii) ANSI C63.19-2019, American National Standard Methods of Measurement of Compatibility Between Wireless Communication Devices and Hearing Aids, approved August 19, 2019.

(2) Telecommunications Industry Association (TIA), 1320 North Courthouse Road, Suite 200, Arlington, VA 22201, (703) 907-7700, global@ihs.com, https://global.ihs.com/csf_home.cfm?&csf=TIA.

(i) ANSI/TIA-5050-2018, Telecommunications—Communications Products—Receive Volume Control Requirements for Wireless (Mobile) Devices, approved January 17, 2018.

(ii) [Reserved]

5. Delayed indefinitely, further amend § 20.19 by revising paragraphs (f), (h)(1), and (i) to read as follows:

§ 20.19 Hearing aid-compatible mobile handsets.

* * * * *

(f) Labeling and disclosure requirements for hearing aid-compatible handsets—(1) Package label. For all handset models certified to be hearing aid-compatible, manufacturers and service providers shall ensure that the handset's package label states that the handset is hearing aid-compatible and the handset's actual conversational gain with and without a hearing aid if certified using a technical standard with volume control requirements. The actual conversational gain displayed for use with a hearing aid shall be the lowest rating assigned to the handset for any covered air interface or frequency band.

(2) Package insert or handset manual. For all handset models certified to be hearing aid-compatible, manufacturers and service providers shall disclose to consumers through the use of a package insert or in the handset's user manual:

(i) That the handset is hearing aid-compatible;

(ii) The ANSI standard used to determine the hearing aid compatibility of the handset model's air interfaces and frequency bands;

(iii) If using the 2011 ANSI standard or an earlier version of the standard, the lowest hearing aid compatibility rating assigned to any of the covered air interfaces or frequency bands;

(iv) The air interfaces or frequency bands on the handset that are not certified to be hearing aid-compatible, if applicable, or have been determined to be hearing aid-compatible under special testing circumstances;

(v) Any handset model certified to be hearing aid-compatible for some but not all of the air interfaces or frequency bands covered by the model must include the following disclosure language:

This phone has been tested and certified for use with hearing aids for some of the wireless technologies that it uses. However, there may be some newer wireless technologies used in this phone that have not been tested yet for use with hearing aids. It is important to try the different features of this phone thoroughly and in different locations, using your hearing aid or cochlear implant, to determine if you hear any interfering noise. Consult your service provider or the manufacturer of this phone for information on hearing aid compatibility. If you have questions about return or exchange policies, consult your service provider or phone retailer.

(vi) An explanation of the ANSI rating system, which includes an explanation that the 2019 ANSI standard does not use the rating system that older versions of the standard used;

(vii) An explanation of a handset model's volume control capabilities, including its conversational gain both with and without hearing aids, if the handset is certified using a technical standard that includes volume control requirements; and

(viii) An explanation of special testing circumstances, if a handset model has air interfaces that have been certified as hearing aid-compatible under such circumstances, and how these circumstances affect the use and operation of the handset.

* * * * *

(h) * * *

(1) Each manufacturer and service provider that operates a publicly-accessible website must make available on its website a list of all hearing aid-compatible models currently offered, the ANSI standard used to evaluate hearing aid compatibility, the ratings of those models under the relevant ANSI standard, if applicable, and an explanation of the rating system. Each service provider must also include on its website: A list of all non-hearing aid-compatible models currently offered, as well as a link to the current FCC web page containing information about the wireless hearing aid compatibility rules and service providers' obligations. Each service provider must also include the marketing model name/number(s) and FCC ID number of each hearing aid-compatible and non-hearing aid-compatible model currently offered.

* * * * *

(i) Reporting requirements—(1) Reporting and certification dates. Service providers shall submit Form 855 certifications on their compliance with the requirements of this section by January 31 of each year. Manufacturers shall submit Form 655 reports on their compliance with the requirements of this section by July 31 of each year. Information in each certification and report must be up-to-date as of the last day of the calendar month preceding the due date of each certification and report.

(2) Content of service provider certifications. Certifications filed by service providers must include:

(i) The name of the signing executive and contact information;

(ii) The company(ies) covered by the certification;

(iii) The FCC Registration Number (FRN);

(iv) If the service provider is subject to paragraph (h) of this section, the website address of the page(s) containing the required information regarding handset models;

(v) The percentage of handsets offered that are hearing aid-compatible (providers will derive this percentage by determining the number of hearing aid-compatible handsets offered across all air interfaces during the year divided by the total number of handsets offered during the year); and

(vi) The following language:

I am a knowledgeable executive [of company x] regarding compliance with the Federal Communications Commission's wireless hearing aid compatibility requirements at a wireless service provider covered by those requirements.

I certify that the provider was [(in full compliance/not in full compliance)] [choose one] at all times during the applicable time period with the Commission's wireless hearing aid compatibility deployment benchmarks and all other relevant wireless hearing aid compatibility requirements.

The company represents and warrants, and I certify by this declaration under penalty of perjury pursuant to 47 CFR 1.16 that the above certification is consistent with 47 CFR 1.17, which requires truthful and accurate statements to the Commission. The company also acknowledges that false statements and misrepresentations to the Commission are punishable under Title 18 of the U.S. Code and may subject it to enforcement action pursuant to Sections 501 and 503 of the Act.

(vii) If the company selected that it was not in full compliance with this section, an explanation of which wireless hearing aid compatibility requirements it was not in compliance with, when the non-compliance began and (if applicable) ended with respect to each requirement.

(3) Content of manufacturer reports. Reports filed by manufacturers must include:

(i) Handset models tested, since the most recent report, for compliance with the applicable hearing aid compatibility technical ratings, if applicable;

(ii) Compliant handset models offered to service providers since the most recent report, identifying each model by marketing model name/number(s) and FCC ID number;

(iii) For each compliant model, the air interface(s) and frequency band(s) over which it operates, the hearing aid compatibility ratings for each frequency band and air interface under the ANSI standard (if applicable), the ANSI standard version used, and the months in which the model was available to service providers since the most recent report;

(iv) Non-compliant models offered to service providers since the most recent report, identifying each model by marketing model name/number(s) and FCC ID number;

(v) For each non-compliant model, the air interface(s) over which it operates and the months in which the model was available to service providers since the most recent report;

(vi) Total numbers of compliant and non-compliant models offered to service providers for each air interface as of the time of the report;

(vii) Any instance, as of the date of the report or since the most recent report, in which multiple compliant or non-compliant devices were marketed under separate model name/numbers but constitute a single model for purposes of the hearing aid compatibility rules, identifying each device by marketing model name/number and FCC ID number;

(viii) Status of product labeling;

(ix) Outreach efforts; and

(x) If the manufacturer maintains a public website, the website address of the page(s) containing the information regarding hearing aid-compatible handset models required by paragraph (h) of this section.

(4) Format. The Wireless Telecommunications Bureau is delegated authority to approve or prescribe forms, formats, and methods for submission of the reports and certifications in addition to or instead of those required by this section. Any format that the Bureau may approve or prescribe shall be made available on the Bureau's website.

* * * * *

PART 68—CONNECTION OF TERMINAL EQUIPMENT TO THE TELEPHONE NETWORK

6. The authority citation for part 68 continues to read as follows:

Authority: 47 U.S.C. 154, 303, 610.

Subpart D—Conditions for Terminal Equipment Approval

7. The authority citation for subpart D is revised to read as follows:

Authority: 47 U.S.C. 154, 155, 303, 610.

8. Amend § 68.300 by revising paragraph (b) to read as follows:

§ 68.300 Labeling requirements.

* * * * *

(b) All registered telephones, including cordless telephones, as defined in § 15.3(j) of this chapter, manufactured in the United States (other than for export) or imported for use in the United States, that are hearing aid compatible, as defined in § 68.316, shall have the letters “HAC” permanently affixed thereto. “Permanently affixed” means that the label is etched, engraved, stamped, silkscreened, indelibly printed, or otherwise permanently marked on a permanently attached part of the equipment or on a nameplate of metal, plastic, or other material fastened to the equipment by welding, riveting, or a permanent adhesive. The label must be designed to last the expected lifetime of the equipment in the environment in which the equipment may be operated and must not be readily detachable. Telephones used with public mobile services or private radio services, and secure telephones, as defined by § 68.3, are exempt from the requirement in this paragraph (b).

* * * * *

[FR Doc. 2021-08973 Filed 5-3-21; 8:45 am]

BILLING CODE 6712-01-P